SMALL BUSINESS ADMINISTRATION

[Disaster Declaration #17440 and #17441; NEW MEXICO Disaster Number NM-00080]

Presidential Declaration Amendment of a Major Disaster for the State of New Mexico

AGENCY: U.S. Small Business Administration.

ACTION: Amendment 1.

SUMMARY: This is an amendment of the Presidential declaration of a major disaster for the State of NEW MEXICO (FEMA-4652-DR), dated 05/04/2022.

Incident: Wildfires and Straight-line Winds.

Incident Period: 04/05/2022 and continuing.

DATES: Issued on 06/30/2022.

Physical Loan Application Deadline Date: 08/04/2022.

Economic Injury (EIDL) Loan Application Deadline Date: 02/06/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of NEW MEXICO, dated 05/04/2022, is hereby amended to extend the deadline for filing applications for physical damages as a result of this disaster to 08/04/2022.

All other information in the original declaration remains unchanged.

(Catalog of Federal Domestic Assistance Number 59008)

Joshua Barnes,
Acting Associate Administrator for Disaster Assistance.

[FR Doc. 2022-14408 Filed 7-6-22; 8:45 am]

BILLING CODE 8026-09-P